DEPARTMENT OF AGRICULTURE

Submission for OMB Review; Comment Request

February 22, 2005.

The Department of Agriculture has submitted the following information colleciton requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_ombSubmission@eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Perception of Risk, Trust, Responsibility, and Management Preferences Among Fire Prone Communities.

OMB Control Number: 0596-NEW.

Summary of Collection: The Forest and Rangeland Renewable Resource Research Act of 1978 (Public Law 95-307), direct the Secretary of Agriculture to conduct, support, and cooperate in investigations, experiments, tests, and other activities the Secretary deems necessary to obtain, analyze, develop, demonstrate, and disseminate scientific information about protecting, managing, and utilizing forest and rangeland renewable resources in rural, suburban, and urban areas. The risk of fire and the impact of recent fires have been significant on the San Bernardino National Forest. The Forest Service (FS) will conduct a study using a questionnaire to gain a first-hand view from residents in four communities within the San Bernardino National Forest to help resource managers better understand the beliefs, perceptions, and behaviors of those residents.

Need and Use of the Information: The information collected will be used to construct a technical report on findings, to prepare journal articles for submission to peer view outlets, for presentations at scientific meetings, and for presentations to natural resource managers as appropriate. Without the information management decisions will be made on limited and anecdotal information regarding public values and perceptions as well as perceived responsibility in management of fire risk.

Description of Respondents: Individuals or households.

Number of Respondents: 286.

Frequency of Responses: Report: On occasion.

Total Burden Hours: 457.

Ruth Brown,
Departmental Information Collection Clearance Officer.

[FR Doc. 05-3753 Filed 2-25-05; 8:45 am]

BILLING CODE 3710-11-M